DEPARTMENT OF HEALTH AND HUMAN SERVICES

National Institutes of Health

Draft Report on Health Research and Development To Stem the Opioid Crisis: A Federal Roadmap; Request for Comments

AGENCY: National Institutes of Health, HHS.

ACTION: Notice for public comment.

SUMMARY: The Office of the Director, National Institutes of Health (NIH), on behalf of the National Science and Technology Council (NSTC); Committee on Science; Fast Track Action Committee on Health Science and Technology Response to the Opioid Crisis (Opioid FTAC), is requesting input on the content of a draft report, “Health Research and Development to Stem the Opioid Crisis: A Federal Roadmap.”

DATES: Comments must be submitted on or before December 5, 2018.

ADDRESSES: You may submit comments by email to opioidsroadmap@OSTP.eop.gov. Please include “Health Research and Development to Stem the Opioid Crisis: A Federal Roadmap” in the subject line of the message.

Instructions: The draft report is available for download at: https://www.nih.gov/draft-ftac. Response to this Notice for Public Comments is voluntary. Clearly indicate the section and page number, if applicable, to which submitted comments pertain. All submissions must be in English. Please clearly label submissions as regarding “Health Research and Development to Stem the Opioid Crisis: A Federal Roadmap.” When the final report is issued, relevant comments and the commenters' names, along with the commenters' responses, may become part of the public record and be made available to view online. NIH therefore requests that commenters do not submit business proprietary information, copyrighted information, or personally identifiable information in response to this Notice for Public Comment. Please note that the U.S. Government will not pay for response preparation or for the use of any information contained in the response.

FOR FURTHER INFORMATION CONTACT: Sara Brenner, Office of Science and Technology Policy, (202) 456-444, or OpioidsRoadmap@ostp.eop.gov.

SUPPLEMENTARY INFORMATION: The Opioid FTAC was chartered in December 2017 to facilitate coordination of health Research and Development (R&D) and related Science and Technology (S&T) activities across agencies, and with other Administration initiatives, in support of the national response to the opioid crisis; facilitate interagency sharing of opioid-related health R&D findings, standard-based data and tools, and best practices; assess gaps in, and opportunities for strengthening, the R&D and related S&T response to the opioid crisis; and, identify opportunities to expedite promising and potentially groundbreaking R&D efforts to rapidly combat the crisis.

The draft report builds on the recommendations in the report from the President's Commission on Combating Drug Addiction and The Opioid Crisis, as well as recommendations from multiple other sources, such as the National Academy of Sciences report on Pain Management and the Opioid Epidemic, the Interagency Pain Research Coordinating Committee's Federal Pain Research Strategy, the National Governors Association report on Governor's Recommendations for Federal Action to End the Nation's Opioid Crisis, and the Surgeon General's report Facing Addiction in America, among others, to identify research and development opportunities to coordinate the Federal Government's S&T response to the opioid crisis. This notice solicits relevant public input on the draft report.

The report describes:

• Seven areas of R&D: (1) The Biology and Chemistry of Opioid Addiction and Pain, (2) Non-Biological Contributors to Opioid Addiction, (3) Pain Management, (4) Prevention of Opioid Addiction, (5) Treatment of Opioid Addiction and Withdrawal, (6) Overdose Prevention and Recovery, and (7) Community Consequences of Opioid Addiction;

• Research recommendations generated by the Opioid FTAC in each of these areas;

• An eighth section that includes recommendations on ways to enhance Federal interagency coordination as well as coordination with non-Federal stakeholders.

Dated: October 29, 2018.
Lawrence A. Tabak,
Deputy Director, National Institutes of Health.

[FR Doc. 2018-24149 Filed 11-2-18; 8:45 am]

BILLING CODE 4140-01-P